POSTAL SERVICE

39 CFR Part 111

Mobile Barcode Promotion

AGENCY: Postal Service™.

ACTION: Final rule.

SUMMARY: The Postal Service is revising the Mailing Standards of the United States Postal Service, Domestic Mail Manual (DMM®) 709.4 to add a temporary promotion for First-Class Mail® cards, letters and flats, and Standard Mail® letters and flats bearing two-dimensional mobile barcodes.

DATES: Effective Date: July 5, 2011.

FOR FURTHER INFORMATION CONTACT: Krista Becker at 202-268-7345 or mobilebarcode@usps.gov; or Bill Chatfield at 202-268-7278.

SUPPLEMENTARY INFORMATION: On April 12, 2011, the Postal Service filed a notice with the Postal Regulatory Commission to temporarily reduce the prices for certain types of First-Class Mail and Standard Mail that contain, in or on the mailpiece, a two-dimensional mobile barcode readable by consumer smartphones. The Commission has completed its review.

In this final rule, the Postal Service provides a description of the conditions for eligibility for the price reduction for the mobile barcode promotion, and the new mailing standards to implement the promotion. To be eligible, each mailpiece in the mailing (and listed on the postage statement) must have a qualifying two-dimensional mobile barcode on the outside of each piece or on the contents within each piece. The barcodes, when scanned, must be used for consumer interaction and be relevant to the contents of the mailpiece. The mobile barcodes must be used for marketing, promotional or educational purposes. They may not be used for internal corporate operational processes or for postage evidencing purposes. Barcodes that link consumers to sites that encourage enrollment to online bill paying or paperless statement services are not considered marketing, promotional or educational for the purposes of this initiative and are not eligible for the discount.

A price reduction of three percent of the total postage cost for a mailing in which all mailpieces contain a two-dimensional mobile (also known as a “QR” barcode) barcode that is readable by consumer smartphones will apply to presort and automation mailings of First-Class Mail cards, letters, and flats; and Standard Mail (including nonprofit) letters and flats. Commingled, co-mailed and combined mailings are allowed, but a separate postage statement is required for mailpieces with mobile barcodes. Eligible mailings must be accompanied by electronic documentation under existing mailing standards for submission of electronic documentation.

Other than the full-service Intelligent Mail® barcode discount, mailpieces are ineligible to receive any other incentive if claiming the mobile barcode promotion three percent discount.

Promotion Dates and More Information

The Postal Service will implement the promotion and temporary price reduction effective for mailings made on July 1, 2011 through August 31, 2011. Plant-verified drop shipment (PVDS) mailings may be accepted at origin on or after June 26, 2011 for mail to be entered at a destination facility on or after July 1. PVDS shipments accepted no later than August 31 may be entered at destinations through September 15, 2011. Program requirements, including updated FAQs, are available on the RIBBS® Web site at https://ribbs.usps.gov/index.cfm?page=mobilebarcode or by e-mail to mobilebarcode@usps.gov.

The Postal Service adopts the following changes to Mailing Standards of the United States Postal Service, Domestic Mail Manual (DMM), which is incorporated by reference in the Code of Federal Regulations. See 39 CFR 111.1.

List of Subjects in 39 CFR Part 111

Administrative practice and procedure, Postal Service.

Accordingly, 39 CFR part 111 is amended as follows:

PART 111—[AMENDED]

1. The authority citation for 39 CFR Part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of the Mailing Standards of the United States Postal Service, Domestic Mail Manual (DMM):

* * * * *

700 Special Standards

* * * * *

709 Experimental and Temporary Classifications

* * * * *

[Add new 4.0 as follows:]

4.0 Two-Dimensional Mobile Barcode Promotion

4.1 Program Description and Scope

The two-dimensional mobile barcode promotion provides a three percent discount for presorted and automation mailings of First-Class Mail cards, letters, and flats and Standard Mail (including Nonprofit) letters and flats that include a two-dimensional mobile barcode when the mailpieces meet all the conditions in these standards. The promotion is valid for mailings entered from July 1, 2011 through August 31, 2011. Plant-verified drop shipment (PVDS) mailings meeting all relevant standards may qualify for participation in this promotion as follows:

a. PVDS mailings may be accepted at origin as early as June 26, 2011 if they are entered on or after July 1, 2011 at the destination.

b. PVDS mailings may be accepted at origin as late as August 31, 2011 if they are entered no later than September 15, 2011 at the destination.

4.2 Eligibility Standards

To be eligible for the three percent discount, mailpieces must be mailed under the following conditions:

a. A two-dimensional mobile barcode must be on each mailpiece, either on the outside or printed on the contents of the piece. One-dimensional barcodes do not qualify.

b. The barcode must be readable by a mobile smartphone with a two-dimensional barcode reader application. The barcode must be used for marketing, promotional or educational purposes and be relevant to the contents of the mailpiece. Barcodes with links that direct consumers to sites that encourage enrollment to online bill paying or paperless statement services are not considered marketing, promotional or educational for the purposes of this initiative and are not eligible for the discount. Mailpieces with mobile barcodes that convey postage information, destination, sender or machinable serial number for security also are not eligible for the discount.

c. The mailpieces with mobile barcodes must be one of the following:

1. Presorted or automation First-Class Mail cards, letters, or flats.

2. Standard Mail (including nonprofit) letters or flats.

d. Postage must be paid with a permit imprint, and the postage statement and mailing documentation must be submitted electronically. All pieces on a postage statement must contain a mobile barcode that qualifies for the discount.

e. Participating mailers must provide the acceptance unit with a sample of the mailpiece that contains a mobile barcode. Mailers must also retain, until October 31, 2011, a sample of each mailpiece claiming a discount.

f. Other than a full-service Intelligent Mail discount (see 705.23), no other incentives apply for mailpieces claiming a discount under this promotion.

4.3 Discount

Mailers must claim the three percent postage discount on the postage statement at the time the statement is electronically submitted. The electronic equivalent of the mailer's signature on the postage statement will certify that each mailpiece claimed on the postage statement contains a qualifying two-dimensional mobile barcode.

* * * * *

We will publish an appropriate amendment to 39 CFR part 111 to reflect these changes.

Stanley F. Mires,
Chief Counsel, Legislative.

[FR Doc. 2011-14251 Filed 6-14-11; 8:45 am]

BILLING CODE 7710-12-P